NUCLEAR REGULATORY COMMISSION

[NRC-2012-0285]

Regulatory Guide 1.182, “Assessing and Managing Risk Before Maintenance Activities at Nuclear Power Plants”

AGENCY: Nuclear Regulatory Commission.

ACTION: Notice of withdrawal.

SUMMARY: The U.S. Nuclear Regulatory Commission (NRC or Commission), is withdrawing Regulatory Guide (RG)1.182, Revision (Rev.) 0, “Assessing and Managing Risk Before Maintenance Activities at Nuclear Power Plants,” published in May 2000. The document is redundant due to the inclusion of its subject matter in Rev. 3 of RG 1.160, “Monitoring the Effectiveness of Maintenance at Nuclear Power Plants.”

ADDRESSES: Please refer to Docket ID NRC-2012-0285 when contacting the NRC about the availability of information on this document. You may access information related to this document, which the NRC possesses and are publicly available, using any of the following methods:

• Federal Rulemaking Web site: Go to http://www.regulations.gov and search for Docket ID NRC-2012-0285. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to PDR.Resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, MD 20852.

FOR FURTHER INFORMATION CONTACT: Aron Lewin, U.S. Nuclear Regulatory Commission, Washington, DC 20555-0001, telephone: 301-415-2259, email to Aron.Lewin@nrc.gov or Rick Jervey, telephone: 301-251-7404, email to Richard.Jervey@nrc.gov.

SUPPLEMENTARY INFORMATION:

I. Introduction

The NRC is withdrawing RG 1.182, Rev. 0, “Assessing and Managing Risk Before Maintenance Activities at Nuclear Power Plants,” published in May 2000. The requirements in 10 CFR 50.65 address the requirements for monitoring the effectiveness of maintenance at nuclear power plants. RG 1.160, Rev. 2, “Monitoring the Effectiveness of Maintenance at Nuclear Power Plants,” dated March 1997, described methods which are acceptable to the NRC staff for complying with the provisions of 10 CFR 50.65 at that time. In 1999, the NRC amended 10 CFR 50.65 to include a new requirement in paragraph (a)(4) that the licensee manage and assess risk prior to conducting maintenance. The NRC issued RG 1.182 to identify methods that are acceptable to the NRC staff for implementing the provisions of 10 CFR 50.65 associated with managing and assessing the risk of maintenance activities, in lieu of revising RG 1.160 Rev. 2.

The NRC has now revised RG 1.160, (Rev. 3) to include the guidance in RG 1.182 on acceptable methods to meet the provisions of 10 CFR 50.65(a)(4) associated with managing and assessing risk. RG 1.160, Rev. 3 was issued on May 21, 2012 (77 FR 30030). Therefore, RG 1.182 is no longer needed, as the guidance in Regulatory Guide 1.182 is already contained in Regulatory Guide 1.160. The withdrawal of RG 1.182 does not alter any prior or existing licensing commitments or conditions based on its use or reference.

II. Additional Information

The withdrawal of RG 1.182 does not alter any prior or existing licensing commitments based on its use. The guidance provided in this RG is no longer necessary. Regulatory guides may be withdrawn when their guidance no longer provides useful information, or is superseded by technological innovations, congressional actions, or other events.

Regulatory guides are revised for a variety of reasons and the withdrawal of an RG should be thought of as the final revision of the guide. Although an RG is withdrawn, current licensees may continue to use it, and withdrawal does not affect any existing licenses or agreements. Withdrawal of a guide means that the guide should not be used for future NRC licensing activities. However, although a regulatory guide is withdrawn, changes to existing licenses can be accomplished using other regulatory products.

Regulatory guides and publicly available NRC documents are available on line in the NRC Library at: http://www.nrc.gov/reading-rm/doc-collections/. The documents can also be viewed online for free or printed for a fee in the NRC's PDR at 11555 Rockville Pike, Rockville, MD; the mailing address is USNRC PDR, Washington, DC 20555-0001; telephone: 301-415-4737, or 1-800-397-4209; fax 301-415-3548; or by email to PDR.Resource@nrc.gov. Regulatory guides are not copyrighted, and NRC approval is not required to reproduce them.

Regulatory Guide 1.182 is a rule as designated in the Congressional Review Act (5 USC 801-808). However, withdrawal of this regulatory guide is not a change in a rule under the Congressional Review Act, inasmuch as the guidance in Regulatory Guide 1.182 is also provided in Regulatory Guide 1.160, Rev. 3, which continues to be effective.

III. Backfitting and Issue Finality

The withdrawal of RG 1.182 does not constitute backfitting as defined in 10 CFR 50.109 (the Backfit Rule) and is not otherwise inconsistent with the issue finality provisions in 10 CFR Part 52. As discussed above under “Further Information,” withdrawal of RG 1.182 does not alter the acceptability of the guidance contained in that RG on compliance with 10 CFR 50.65(a)(4), inasmuch as that guidance is now contained in RG 1.160, Revision 3. There is no change in NRC [staff's] position on the acceptability of the guidance formerly included in RG 1.182, which is now included in RG 1.160, Rev. 3.

Dated at Rockville, Maryland, this 16th day of November, 2012.
For the Nuclear Regulatory Commission.
Thomas H. Boyce,
Branch Chief, Regulatory Guide Development Branch, Division of Engineering, Office of Nuclear Regulatory Research.

[FR Doc. 2012-28719 Filed 11-26-12; 8:45 am]

BILLING CODE 7590-01-P